DEPARTMENT OF THE INTERIOR

Bureau of Land Management

[ES-960-1430-ET; MIES-16817]

Public Land Order No. 7580; Revocation of Executive Order Dated June 30, 1851; MI

AGENCY: Bureau of Land Management, Interior.

ACTION: Public Land Order.

SUMMARY: This order revokes in its entirety, an 1851 Executive Order which reserved 58.75 acres of public land for the Grand Traverse Light Station. The land is no longer needed by the United States Coast Guard for lighthouse purposes. This order will open 16.37 acres of the formerly reserved land to surface entry.

DATE: September 15, 2003.

FOR FURTHER INFORMATION CONTACT: Ed Ruda, BLM Eastern States Office, 7450 Boston Boulevard, Springfield, Virginia 22153, 703-440-1663.

SUPPLEMENTARY INFORMATION: All of the land, except as described in Paragraph 2, has been conveyed out of Federal ownership. This is a record clearing action only for the land that is no longer in Federal ownership.

Order

By virtue of the authority vested in the Secretary of the Interior by section 204 of the Federal Land Policy and Management Act of 1976, 43 U.S.C. 1714 (2000), it is ordered as follows:

1. The Executive Order dated June 30, 1851, which reserved public land for lighthouse purposes, is hereby revoked in its entirety.

2. At 10 a.m. on September 15, 2003, the land described below will be opened to the operation of the public land laws generally, subject to valid existing rights, the provision of existing withdrawals, other segregations of record, and the requirements of applicable law. All valid applications received at or prior to 10 a.m. on September 15, 2003, shall be considered as simultaneously filed at that time. Those received thereafter shall be considered in the order of filing.

Michigan Meridian

T. 32 N., R. 10 W.,

Grand Traverse Light Station Reservation, located in lot 3, sec. 6, being more particularly described as:

Beginning at the intersection of secs. 5, 6, 7 and 8, T. 32 N., R. 10 W.,

Thence, N. 53°27′ W., 34.456 chains, to Angle Point # 1, the place of beginning,

N. 0°18′ E., 12.600 chains, to Angle Point # 2 on the present shoreline of Lake Michigan,

Thence, with the meanders of Lake Michigan,

S. 89°41′ W., 2.199 chains,

S. 70°45′ W., 3.741 chains,

N. 88°22′ W., 4.781 chains,

S. 80°33′ W., 2.563 chains,

S. 19°35′ W., 5.144 chains,

S. 9°47′ E., 6.241 chains to Special Meander Corner,

S. 89°42′ E., 13.636 chains to Angle Point #1, the place of beginning.

The area described contains 16.37 acres in Leelanau County.

Dated: July 25, 2003.
Rebecca W. Watson,
Assistant Secretary—Land and Minerals Management.

[FR Doc. 03-20745 Filed 8-13-03; 8:45 am]

BILLING CODE 4310-GJ-P